ARCHITECTURAL AND TRANSPORTATION BARRIERS COMPLIANCE BOARD

36 CFR Part 1195

[Docket No. ATBCB-2012-0003]

RIN 3014-AA40

Medical Diagnostic Equipment Accessibility Standards Advisory Committee

AGENCY: Architectural and Transportation Barriers Compliance Board.

ACTION: Notice of advisory committee meeting.

SUMMARY: The Medical Diagnostic Equipment Accessibility Standards Advisory Committee (Committee) will hold its second meeting. On July 5, 2012, the Architectural and Transportation Barriers Compliance Board (Access Board) established an advisory committee to make recommendations to the Board on matters associated with comments received and responses to questions included in a previously published Notice of Proposed Rulemaking (NPRM) on Medical Diagnostic Equipment Accessibility Standards.

DATES: The Committee will meet on October 29, 2012, from 10:00 a.m. to 5:00 p.m. and on October 30, 2012, from 9:00 a.m. to 3:00 p.m.

ADDRESSES: The meeting will be held at the Access Board's Conference Room, 1331 F Street NW., Suite 800, Washington, DC 20004-1111.

FOR FURTHER INFORMATION CONTACT: Rex Pace, Office of Technical and Information Services, Architectural and Transportation Barriers Compliance Board, 1331 F Street NW., suite 1000, Washington, DC 20004-1111. Telephone number (202) 272-0023 (Voice); (202) 272-0052 (TTY). Electronic mail address: pace@access-board.gov.

SUPPLEMENTARY INFORMATION: On July 5, 2012, the Architectural and Transportation Barriers Compliance Board (Access Board) established an advisory committee to make recommendations to the Board on matters associated with comments received and responses to questions included in a previously published NPRM on Medical Diagnostic Equipment Accessibility Standards. See 77 FR 6916 (February 9, 2012). The NPRM and information related to the proposed standards are available on the Access Board's Web site at: http://www.access-board.gov/medical-equipment.htm.

The advisory committee will hold its second meeting on October 29 and 30, 2012. The agenda for the meeting includes the following:

• Review of previous committee work;

• Formation of subcommittees based on medical diagnostic equipment type;

• Continued discussion on transfer surface height and size;

• Consideration of and possible discussion on permitted obstructions to the transfer surface;

• Consideration of and possible discussion on transfer support location and configuration;

• Consideration of and possible discussion on issues proposed by committee members; and

• Discussion of administrative issues.

The preliminary meeting agenda, along with information about the committee, is available at the Access Board's Web site (http://www.access-board.gov/medical-equipment.htm).

Committee meetings are open to the public and interested persons can attend the meetings and communicate their views. Members of the public will have opportunities to address the committee on issues of interest to them during public comment periods scheduled on each day of the meeting.

The meetings will be accessible to persons with disabilities. An assistive listening system, computer assisted real-time transcription (CART), and sign language interpreters will be provided. Persons attending the meetings are requested to refrain from using perfume, cologne, and other fragrances for the comfort of other participants (see www.access-board.gov/about/policies/fragrance.htm for more information). Also, persons wishing to provide handouts or other written information to the committee are requested to provide electronic formats to Rex Pace via email prior to the meetings so that alternate formats can be distributed to committee members.

David M. Capozzi,
Executive Director.

[FR Doc. 2012-25257 Filed 10-12-12; 8:45 am]

BILLING CODE 8150-01-P